FEDERAL TRADE COMMISSION

Agency Information Collection Activities; Submission for OMB Review; Comment Request; Extension

AGENCY: Federal Trade Commission.

ACTION: Notice.

SUMMARY: The Federal Trade Commission (“FTC” or “Commission”) requests that the Office of Management and Budget (“OMB”) extend for an additional three years the current Paperwork Reduction Act (“PRA”) clearance for information collection requirements contained in the Commission's rules and regulations under the Fur Products Labeling Act (“Fur Rules” or “Rules”). That clearance expires on October 31, 2024.

DATES: Comments must be filed by July 22, 2024.

ADDRESSES: Interested parties may file a comment online or on paper, by following the instructions in the Request for Comment part of the SUPPLEMENTARY INFORMATION section below. Written comments and recommendations for the proposed information collection should be sent within 30 days of publication of this notice to www.reginfo.gov/public/do/PRAMain. Find this particular information collection by selecting “Currently under 30-day Review—Open for Public Comments” or by using the search function.

FOR FURTHER INFORMATION CONTACT: Jock K. Chung, Attorney, Division of Enforcement, Bureau of Consumer Protection, Federal Trade Commission, Mail Code CC-9528, 600 Pennsylvania Avenue NW, Washington, DC 20580, (202) 326-2984.

SUPPLEMENTARY INFORMATION:

Title of Collection: Rules and Regulations under the Fur Products Labeling Act, 16 CFR part 301.

OMB Control Number: 3084-0099.

Type of Review: Extension without change of currently approved collection.

Abstract: The Fur Products Labeling Act (“Fur Act”) ¹ prohibits the misbranding and false advertising of fur products. The Fur Rules establish disclosure requirements that assist consumers in making informed purchasing decisions, and recordkeeping requirements that assist the Commission in enforcing the Rules. The Rules also provide a procedure for exemption from certain disclosure provisions under the Fur Act.

¹ 15 U.S.C. 69 et seq.

Likely Respondents: Retailers, manufacturers, processors, and importers of furs and fur products.

Frequency of Response: Third party disclosure; recordkeeping requirement.

Estimated Annual Burden Hours: 180,639 hours (45,720 hours for recordkeeping + 134,919 hours for disclosure).

Estimated Annual Cost Burden: $3,750,855 (roundest to the nearest whole dollar amount).²

² The hourly wage rates are updated from the 60-Day Federal Register Notice, which was published in the Federal Register on March 26, 2024 (89 FR 20970), and now are based on data through May 2023 from the Bureau of Labor Statistics Occupational Employment Statistics Survey at https://www.bls.gov/news.release/ocwage.htm (released on Apr. 3, 2024).

Estimated Annual Non-Labor Costs: $0 or de minimis.

Request for Comment:

On March 26, 2024, the FTC sought public comment on the information collection requirements associated with the Rules. 89 FR 20970 (Mar. 26, 2024). No relevant comments were received during the public comment period. Pursuant to OMB regulations, 5 CFR part 1320, that implement the PRA, 44 U.S.C. 3501 et seq., the FTC is providing this second opportunity for public comment while seeking OMB approval to renew the pre-existing clearance for the Rules. For more details about the Fur Rules' requirements and the basis for the calculations summarized above, see 89 FR 20970.

Your comment—including your name and your state—will be placed on the public record of this proceeding. Because your comment will be made public, you are solely responsible for making sure that your comment does not include any sensitive personal information, such as anyone's Social Security number; date of birth; driver's license number or other state identification number or foreign country equivalent; passport number; financial account number; or credit or debit card number. You are also solely responsible for ensuring that your comment does not include any sensitive health information, such as medical records or other individually identifiable health information. In addition, your comment should not include any “[t]rade secret or any commercial or financial information which is . . . privileged or confidential”—as provided in Section 6(f) of the FTC Act, 15 U.S.C. 46(f), and FTC Rule 4.10(a)(2), 16 CFR 4.10(a)(2)—including, in particular, competitively sensitive information, such as costs, sales statistics, inventories, formulas, patterns devices, manufacturing processes, or customer names.

Josephine Liu,
Assistant General Counsel for Legal Counsel.

[FR Doc. 2024-13486 Filed 6-18-24; 8:45 am]

BILLING CODE 6750-01-P